DEPARTMENT OF HEALTH AND HUMAN SERVICES

Centers for Disease Control and Prevention

[60Day-26-1283; Docket No. CDC-2025-0948]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Monitoring and Reporting for the Overdose Data to Action (OD2A) Cooperative Agreement. OD2A funds 90 health departments to collect and use data to drive action to reduce overdose deaths as quickly as possible, focusing on populations at the greatest risk of overdose.

DATES: CDC must receive written comments on or before February 13, 2026.

ADDRESSES: You may submit comments, identified by Docket No. CDC-2025-0948 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Monitoring and Reporting for the Overdose Data to Action (OD2A) Cooperative Agreement (OMB Control No. 0920-1283, Exp. 05/31/2026)—Revision—National Center for Injury Prevention and Control (NCIPC), Centers for Disease Control and Prevention (CDC).

Background and Brief Description

In response to the growing severity of the opioid overdose epidemic, the U.S. government declared the opioid overdose epidemic a public health emergency on October 26, 2017. The opioid overdose epidemic is one of the U.S. Department of Health and Human Services (HHS) top priorities. Opioids are nested in a complex polysubstance epidemic, largely driven by deaths involving illicitly manufactured fentanyl and co-involving opioids and stimulants, such as cocaine and methamphetamine. Although the overdose epidemic has broadened in scope, provisional data estimate that the United States (U.S.) had a decline of nearly 27% in drug overdose deaths between 2023 and 2024. This marked success emphasizes the need to continue this life-saving work. There is continued urgency to address the magnitude of the drug overdose epidemic in the U.S., given that 2024 witnessed an estimated 83,391 drug overdose deaths. Consequently, it is imperative that prevention strategies that have been at the forefront of reducing drug overdose deaths in the U.S. continue to be employed and supported by public health departments and partners working across settings and sectors.

CDC's NCIPC Division of Overdose Prevention (DOP) has a comprehensive portfolio of overdose surveillance and prevention efforts, including its flagship Overdose Data to Action (OD2A) cooperative agreements (CoAgs). The purpose of OD2A in States (OD2A-S) (CDC-RFA-CE23-0002) and OD2A: Limiting Overdose through Collaborative Actions in Localities (OD2A: LOCAL) (CDC-RFA-CE23-0003) is to support funded jurisdictions in obtaining high quality, complete, and timelier data on opioid prescribing and overdoses involving opioids, stimulants, and polysubstance use, and to use those data to inform prevention and response efforts. OD2A-S focuses on overdose surveillance and prevention efforts conducted by health departments across 49 states and the District of Columbia. OD2A: LOCAL focuses on overdose surveillance and prevention efforts by 39 health departments in cities and counties and Puerto Rico. This is a request to continue the currently approved Information Collection Requests (OMB Control No. 0920-1283, Exp. 05/31/2026), to ensure that required work plan and annual performance report (APR) data can be submitted by all 90 funded OD2A in States (n=50) and OD2A: LOCAL recipients (n=40). This request is for a three-year period to ensure that all reporting can be completed for these cooperative agreements.

Revisions are requested to remove previously approved data collection instruments that are no longer active for ongoing data collection purposes and revise burden. Data collection instruments being inactivated include Evaluation and Performance Measurement Plan Templates, Data Management Plan Templates, Organizational Capacity Assessment—Annual Reporting, and Activity Progress Report and Work Plan Tool—Annual Reporting. No additional burden has been added; however, based on the removal of previously approved instruments the burden decreased from 1,343 hours to 1,080 hours. There are no costs to respondents other than their time to participate.

Estimated Annualized Burden Hours
Type of respondents | Form name | Number of respondents | Number of responses per respondent | Average burden per response (in hours) | Total burden (in hours)
OD2A-S-funded state and District of Columbia health departments | OD2A-S Annual Performance Report and Work Plan | 50 | 1 | 12 | 600
OD2A-LOCAL-funded territory, county, and city health departments | OD2A: LOCAL Annual Performance Report and Work Plan | 40 | 1 | 12 | 480
Total |  |  |  |  | 1,080

Jeffrey M. Zirger,
Lead, Information Collection Review Office, Office of Public Health Ethics and Regulations, Office of Science, Centers for Disease Control and Prevention.

[FR Doc. 2025-22751 Filed 12-12-25; 8:45 am]

BILLING CODE 4163-18-P